ENVIRONMENTAL PROTECTION AGENCY

[OW-2003-0017, FRL-7830-2]

Agency Information Collection Activities: Proposed Collection; Comment Request; Underground Injection Control (UIC) Program; EPA ICR No. 0370.18; OMB Control No. 2040-0042

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Underground Injection Control Program, EPA ICR No. 0370.18, OMB No. 2040-0042 which is scheduled to expire on January 31, 2005. Before submitting the ICR to OMB for review and approval, EPA is soliciting comments on specific aspects of the proposed information collection as described below.

DATES: Comments must be submitted on or before December 27, 2004.

ADDRESSES: Submit your comments, referencing docket ID number OW-2003-0017, to EPA online using EDOCKET (our preferred method), by e-mail to OW-Docket@epa.gov, or by mail to: EPA Docket Center, Environmental Protection Agency, Water Docket, MC 4101T, 1200 Pennsylvania Avenue, NW., Washington, DC 20460.

FOR FURTHER INFORMATION CONTACT: Robert E. Smith, Office of Ground Water and Drinking Water's Drinking Water Protection Division/Underground Injection Control Program, Environmental Protection Agency, 1200 Pennsylvania Avenue, NW., Washington, DC 20460; Telephone: 202-564-3895, fax number: 202-564-3756, e-mail address: Smith.Robert-Eu@epa.gov.

SUPPLEMENTARY INFORMATION: EPA has established a public docket for this ICR under Docket ID number OW-2003-0017, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above. Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are owners and operators of underground injection wells, State Underground Injection Control (UIC) primacy Agencies, and, in some instances, U.S. EPA Regional Offices and Staff.

Title: Underground Injection Control Program (OMB Control No. 2040-0042; EPA ICR No. 0370.18.)

Abstract: The Underground Injection Control (UIC) Program under the Safe Drinking Water Act established a Federal and State regulatory system to protect underground sources of drinking water (USDWs) from contamination by injected fluids. Owners/operators of underground injection wells must obtain permits, conduct environmental monitoring, maintain records, and report results to EPA or the State UIC primacy agency. States must report to EPA on permittee compliance and related information. The mandatory information is reported using standardized forms, and the regulations are codified at 40 CFR Parts 144 through 148. The data are used to ensure the protection of underground sources of drinking water from UIC authorities.

EPA expects that the total burden for the continuing Program ICR for the period 2005-2007 will exceed the reporting burden estimated in the previous ICR. EPA estimates that the total annual burden will increase by 100,566 hours, and the total cost will increase by $16.8 million. The projected increase over the approved ICR period is primarily due to the following factors: (1) There will be a significant increase in activities related to the 1999 Class V Rule as the regulatory deadlines related to closure of large-capacity cesspools or closure/permitting of motor vehicle waste disposal wells will occur; (2) There will be increased cost to operators associated with quarterly wastewater testing and annual sludge sampling required under the Class V Rule; and (3) The labor rates for all well classes reflect Bureau of Labor Statistics Occupational Employment Statistics for 2003, which are higher than labor estimates for 2001. The Agency has continued to explore burden and cost reduction as required by the Paperwork Reduction Act of 1995. Specifically, EPA is examining how the UIC program could reduce the reporting burden on the States via electronic reporting forms. The Agency will continue work with States on this effort as we finalize the 2005-2007 ICR renewal. Any recommendations from the underground injection control regulated community and the general public on this issue will also be given consideration by the Agency. An agency may not conduct or sponsor, and a person is not required to respond to, a collection of information unless it displays a currently valid OMB control number. The OMB control numbers for EPA's regulations are listed in 40 CFR Part 9 and 48 CFR Chapter 15.

EPA would like to solicit comments to:

(i) Evaluate whether the proposed collection of information is necessary for proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automatic electronic, mechanical, or other technological collection techniques or other forms of information technology, e.g., permitting electronic submission of responses.

Burden Statement: The public reporting and record-keeping burden for this collection of information is estimated to average 2.90 hours, or $203.50 per response annually.

Estimated Number of Likely Respondents: 41,141.

Frequency of Response: Varies.

Estimated Total Annual Hour Burden: 1,192,512 hours.

Estimated Total Annualized Cost Burden: $83,678,101.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 18, 2004.
Cynthia C. Dougherty,
Director, Office of Ground Water and Drinking Water.

[FR Doc. 04-23838 Filed 10-22-04; 8:45 am]

BILLING CODE 6560-50-P